DEPARTMENT OF ENERGY

Federal Energy Regulatory Commission

Combined Notice of Filings

Take notice that the Commission has received the following Natural Gas Pipeline Rate and Refund Report filings:

Filings Instituting Proceedings

Docket Numbers: RP21-1057-001.

Applicants: Northern Border Pipeline Company.

Description: Northern Border Pipeline Company submits tariff filing per 154.203: NBPL—TC eConnects Implementation Compliance to be effective 10/1/2021.

Filed Date: 10/07/21.

Accession Number: 2021107-5096.

Comment Date: 5 p.m. ET 10/22/21.

Docket Numbers: RP21-1206-001.

Applicants: Columbia Gas Transmission, LLC.

Description: Transmission, LLC submits tariff filing per 154.205(b): COR Non-Conforming Agreement Amendment to be effective 11/1/2021.

Filed Date: 10/01/21.

Accession Number: 20211001-5163.

Comment Date: 5 p.m. ET 10/22/21.

Docket Numbers: RP22-58-000.

Applicants: Great Lakes Gas Transmission Limited Partnership.

Description: § 4(d) Rate Filing: GLGT Operator Change to be effective 11/19/2021.

Filed Date: 10/19/21.

Accession Number: 20211019-5083.

Comment Date: 5 p.m. ET 11/1/21.

Docket Numbers: RP22-59-000.

Applicants: Midcontinent Express Pipeline LLC.

Description: § 4(d) Rate Filing: Fuel Tracker Filing 10/20/21 to be effective 12/1/2021.

Filed Date: 10/20/21.

Accession Number: 20211020-5010.

Comment Date: 5 p.m. ET 11/1/21.

Docket Numbers: RP22-60-000.

Applicants: Iroquois Gas Transmission System, L.P.

Description: § 4(d) Rate Filing: 10.20.21 Negotiated Rates—Macquarie Energy LLC R-4090-23 to be effective 11/1/2021.

Filed Date: 10/20/21.

Accession Number: 20211020-5028.

Comment Date: 5 p.m. ET 11/1/21.

Docket Numbers: RP22-61-000.

Applicants: Iroquois Gas Transmission System, L.P.

Description: § 4(d) Rate Filing: 10.20.21 Negotiated Rates—Mercuria Energy America, LLC R-7540-02 to be effective 11/1/2021.

Filed Date: 10/20/21.

Accession Number: 20211020-5029.

Comment Date: 5 p.m. ET 11/1/21.

Docket Numbers: RP22-62-000.

Applicants: Iroquois Gas Transmission System, L.P.

Description: § 4(d) Rate Filing: 10.20.21 Negotiated Rates—Mercuria Energy America, LLC H-7540-89 to be effective 11/1/2021.

Filed Date: 10/20/21.

Accession Number: 20211020-5031.

Comment Date: 5 p.m. ET 11/1/21.

Docket Numbers: RP22-63-000.

Applicants: Iroquois Gas Transmission System, L.P.

Description: § 4(d) Rate Filing: 10.20.21 Negotiated Rates—Sequent Energy Management, L.P. H-3075-89 to be effective 11/1/2021.

Filed Date: 10/20/21.

Accession Number: 20211020-5035.

Comment Date: 5 p.m. ET 11/1/21.

Docket Numbers: RP22-64-000.

Applicants: Alliance Pipeline L.P.

Description: Compliance filing: Alliance Order 587-Z (Docket RM96-1-042) Compliance Filing to be effective 6/1/2022.

Filed Date: 10/20/21.

Accession Number: 20211020-5054.

Comment Date: 5 p.m. ET 11/1/21.

Docket Numbers: RP22-65-000.

Applicants: Southern LNG Company, L.L.C.

Description: § 4(d) Rate Filing: SLNG Electric Power Cost Adjustment—2021 to be effective 12/1/2021.

Filed Date: 10/20/21.

Accession Number: 20211020-5061.

Comment Date: 5 p.m. ET 11/1/21.

Docket Numbers: RP22-66-000.

Applicants: Northern Natural Gas Company.

Description: Compliance filing: 2021020 NAESB Filing to be effective 6/1/2022.

Filed Date: 10/20/21.

Accession Number: 20211020-5064.

Comment Date: 5 p.m. ET 11/1/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2021.
Debbie-Anne A. Reese,
Deputy Secretary.

[FR Doc. 2021-23296 Filed 10-25-21; 8:45 am]

BILLING CODE 6717-01-P